DEPARTMENT OF JUSTICE

Office of Justice Programs

[OJP(OJP) Docket No. 1389]

Amber Alert Technology Conference

AGENCY: Office of Justice Programs, Justice.

ACTION: Notice of conference.

SUMMARY: The Office of Justice Programs is announcing the AMBER Alert Technology Conference to showcase products that are available to support local, State, and regional AMBER Alert programs.

DATES: The conference will be held on December 3-4, 2003.

ADDRESSES: The conference will take place at the Peabody Hotel, 149 Union Avenue, Memphis, Tennessee 38103.

FOR FURTHER INFORMATION CONTACT: Ron Laney, Associate Administrator, Child Protection Division, Office of Juvenile Justice and Delinquency Prevention, OJP, 202-616-3637. (This is not a toll-free number.)

SUPPLEMENTARY INFORMATION: An AMBER Alert Technology Conference will be held on December 3-4, 2003 at the Peabody Hotel in Memphis, Tennessee. AMBER Alert Plan representatives from throughout the country will participate in this event. The conference is designed to showcase products that are available to support local, State, and regional AMBER Alert programs. The conference is sponsored by the Department of Justice's Office of Justice Programs.

If you are interested in participating in this event, please contact Ron Laney at 202-616-3637 no later than October 17, 2003. Please provide your name, the name of your organization, and contact information (phone, fax, e-mail). An information packet will be faxed to interested individuals. Organizations participating in this conference will be responsible for their own expenses, including transportation, lodging, meals, set-up fees, media/equipment rentals, and incidentals.

Dated: October 2, 2003.
Deborah J. Daniels,
Assistant Attorney General, Office of Justice Programs.

[FR Doc. 03-25751 Filed 10-9-03; 8:45 am]

BILLING CODE 4410-18-P